DEPARTMENT OF HOMELAND SECURITY

Bureau of Customs and Border Protection

19 CFR Parts 101 and 122

[USCBP-2006-0091]

Extension of Port Limits of Dayton, OH, and Termination of the User-Fee Status of Airborne Airpark in Wilmington, OH

AGENCY: Bureau of Customs and Border Protection, DHS.

ACTION: Notice of proposed rulemaking.

SUMMARY: This notice of proposed rulemaking proposes to amend Department of Homeland Security (DHS) regulations pertaining to the Bureau of Customs and Border Protection's (CBP's) field organization by extending the geographic limits of the port of Dayton, Ohio, to include the Airborne Airpark in Wilmington, Ohio. The proposed extension of the port limits of Dayton, Ohio, is due to the closing of express consignment operations at Dayton International Airport, and the expansion of express consignment operations at Airborne Airpark, located in Wilmington, Ohio. The user-fee status of Airborne Airpark would be terminated. The proposed change is part of CBP's continuing program to more efficiently utilize its personnel, facilities, and resources, and to provide better service to carriers, importers, and the general public.

DATES: Comments must be received on or before January 22, 2007.

ADDRESSES: You may submit comments, identified by docket number, by one of the following methods:

• Federal eRulemaking Portal: http://www.regulations.gov. Follow the instructions for submitting comments via docket number USCBP-2006-0091.

• Mail: Border Security Regulations Branch, Office of Regulations and Rulings, Bureau of Customs and Border Protection, 1300 Pennsylvania Avenue, NW. (Mint Annex), Washington, DC 20229.

Instructions: All submissions received must include the agency name and docket number for this rulemaking. All comments received will be posted without change to http://www.regulations.gov, including any personal information provided. For detailed instructions on submitting comments and additional information on the rulemaking process, see the “Public Participation” heading of the SUPPLEMENTARY INFORMATION section of this document.

Docket: For access to the docket to read background documents or comments received, go to http://www.regulations.gov. Submitted comments may also be inspected during regular business days between the hours of 9 a.m. and 4:30 p.m. at the Office of Regulations and Rulings, Bureau of Customs and Border Protection, 799 9th Street, NW., Washington, DC. Arrangements to inspect submitted comments should be made in advance by calling Mr. Joseph Clark at (202) 572-8768.

FOR FURTHER INFORMATION CONTACT: Michael Captain, Office of Field Operations, 202-344-2804.

SUPPLEMENTARY INFORMATION:

Public Participation

Interested persons are invited to participate in this rulemaking by submitting written data, views, or arguments on all aspects of the proposed rule. CBP also invites comments that relate to the economic, environmental, or federalism effects that might result from this proposed rule. Comments that will provide the most assistance to CBP in developing these procedures will reference a specific portion of the proposed rule, explain the reason for any recommended change, and include data, information, or authority that support such recommended change.

Background

CBP ports of entry are places (seaports, airports, or land border ports) designated by the Secretary of Homeland Security where CBP officers or employees are assigned to accept entries of merchandise, clear passengers where appropriate, collect duties, and enforce the various provisions of customs and related laws. To facilitate the various duties of CBP, the organizational structure of CBP must, from time to time, be amended to respond to changing demands of the importing/exporting community.

There have been two express consignment operations in the Dayton area: Menlo Worldwide Forwarding/Emery at Dayton International Airport (DAY) and Airborne Express at Airborne Airpark (ILN) in Wilmington, Ohio. The Menlo Worldwide Forwarding/Emery operation is within the Port of Dayton at the north edge of the current port boundaries, and Airborne Airpark is southeast of the current boundaries in Wilmington, Ohio. UPS purchased Menlo Worldwide Forwarding, shut down the Emery operation at Dayton International Airport, and has moved the work to their hub located in Louisville, Kentucky. DHL Express (USA) has purchased Airborne Express and has shut down the DHL operations in Cincinnati-Northern Kentucky Airport (CVG) in Covington, Kentucky. DHL Express (USA) is opening a new, much larger combined operation at Airborne Airpark. These changes in operations will result in an increase in the demand for CBP services at the Airborne Airpark.

In response to these changes, CBP is proposing to amend 19 CFR 101.3(b)(1) by extending the port limits of the Port of Dayton to include the Airborne Airpark, which is currently listed as “Wilmington Airport” in the list of user-fee airports at 19 CFR 122.15(b) (note that the regulations currently refer to the airport as “Wilmington Airport” rather than the correct “Airborne Airpark”). If the proposed port limits are adopted, CBP would relocate the CBP Dayton Port office from its current location at the Dayton International Airport to a new location near the new DHL operation at Airborne Airpark. CBP would also establish an adequately sized secure storage facility in efficient proximity to Airborne Airpark. The proposed changes are intended to allow for continued efficient operation and supervision of CBP services at the DHL facility.

Airborne Airpark is currently a user fee airport. CBP services at a user fee airport are not paid for out of appropriations from the general treasury of the United States. Instead, these services are provided on a fully reimbursable basis to be paid for by the airport on behalf of the recipients of the services. The airport pays for CBP services and then seeks reimbursement from the actual users of those services.

If this proposal is adopted, the Commissioner of CBP would terminate the user fee status of Airborne Airpark and remove the listing “Wilmington Airport” from the user fee list in 19 CFR 122.15(b), because the facility would be included in the boundaries of the Port of Dayton. As a result of the termination of the user fee status of Airborne Airpark, the system of reimbursable fees for Airborne Airpark would be discontinued. This proposed change of status for Airborne Airpark from a user fee airport to inclusion within the boundaries of a port of entry would subject the airport to the passenger processing fee provided for at 19 U.S.C. 58c(a)(5)(B). This fee is collected by CBP and paid into the United States treasury. CBP services would be paid for out of appropriations from the general treasury.

Current Port Limits of Dayton, Ohio

The current port limits of Dayton, Ohio, as described in Treasury Decision (T.D.) 76-77 of March 3, 1976, include the territory within the city limits of Dayton, Ohio, as well as the territory within the township limits of the adjacent townships of Butler, Harrison, Wayne, and Mad River, Ohio.

Proposed Port Limits of Dayton, Ohio

The proposed port limits for Dayton, as well as being expanded to include the Airborne Airpark, substitute geographic information that is readily identifiable by the public in lieu of sometimes difficult to locate township boundaries. The geographic limits of the Port of Dayton are proposed to be as follows:

Beginning at the point where Federal Interstate Highway 75 crosses the Montgomery County—Miami County line; then west along the Montgomery County line to the point where Frederick Pike intersects the Montgomery County line; then south and east on Frederick Pike to the intersection with Dixie Drive; then south to Keowee Street, then south to Federal Interstate Highway 75 to the point where I-75 intersects the Montgomery County—Warren County line; then east along the county line (which becomes the Greene County—Warren County line) to the Clinton County line; then south along the Clinton County line to the intersection with Ohio State Route 350; then east on Route 350 to the intersection with Ohio State Route 73; then north and west on Route 73 to the intersection with U.S. Route 22; then west along Route 22 to U.S. Highway 68; then north and west on U.S. 68 to the intersection with U.S. Highway 35; then west and north on U.S. 35 to Interstate Highway 675; then north and east on I-675 to the intersection with Federal Interstate Highway 70; then west on I-70 to the intersection with the Montgomery County line; and then north and west along the Montgomery County line to the point of beginning.

Proposed Amendment to the Regulations

If the proposed port limits are adopted, the list of CBP ports of entry at 19 CFR 101.3(b)(1) will be amended to reflect the new boundaries of the Dayton, Ohio, port of entry and “Wilmington Airport” will be deleted from the list of user-fee airports at 19 CFR 122.15(b).

Authority

This change is proposed under the authority of 5 U.S.C. 301 and 19 U.S.C. 2, 66 and 1624.

The Regulatory Flexibility Act and Executive Order 12866

With DHS approval, CBP establishes, expands and consolidates CBP ports of entry throughout the United States to accommodate the volume of CBP-related activity in various parts of the country. This proposed rule is not a significant regulatory action within the meaning of Executive Order 12866. This proposed rule also will not have a significant economic impact on a substantial number of small entities as it merely expands the limits of an existing port of entry. Accordingly, it is certified that this document is not subject to the additional requirements of the provisions of the Regulatory Flexibility Act (5 U.S.C. 601 et seq.).

Signing Authority

The signing authority for this document falls under 19 CFR 0.2(a) because this port extension is not within the bounds of those regulations for which the Secretary of the Treasury has retained sole authority. Accordingly, the notice of proposed rulemaking may be signed by the Secretary of Homeland Security (or his delegate).

Dated: November 14, 2006.
Michael Chertoff,
Secretary.

[FR Doc. E6-19631 Filed 11-20-06; 8:45 am]

BILLING CODE 9111-14-P